NATIONAL ARCHIVES AND RECORDS ADMINISTRATION

Office of Government Information Services

[NARA 2016-022]

FOIA Advisory Committee; Solicitation for Committee Member Nominations

AGENCY: National Archives and Records Administration.

ACTION: Notice.

SUMMARY: The National Archives and Records Administration (NARA) seeks member nominations for our Freedom of Information Act (FOIA) Advisory Committee (Committee).

DATES: We must receive nominations for Committee membership before 5 p.m. EDT on April 30, 2016.

ADDRESSES: Email nominations to OGIS at foia-advisory-committee@nara.gov, fax them to Kate Gastner's attention at 202-741-5769, or mail them to Kate Gastner; National Archives and Records Administration; Office of Government Information Services; 8601 Adelphi Road; College Park, MD 20740-6001.

FOR FURTHER INFORMATION CONTACT: Kate Gastner by phone at 202-741-5770, by mail at National Archives and Records Administration; Office of Government Information Services; 8601 Adelphi Road; College Park, MD 20740-6001, or by email at foia-advisory-committee@nara.gov.

SUPPLEMENTARY INFORMATION:

I. Background

We established the Committee under the Federal Advisory Committee Act, 5 U.S.C. App., to advise NARA on improvements to the FOIA and to study the current FOIA landscape across the executive branch. We also established the Committee in accordance with the second United States Open Government National Action Plan released on December 5, 2013, and the directive in the FOIA, 5 U.S.C. 552(h)(1)(C), that the Office of Government Information Services (OGIS) within NARA “recommend policy changes . . . to improve” FOIA administration.

This Committee is subject to the Federal Advisory Committee Act (FACA), the FOIA, and the Government in the Sunshine Act (GISA).

II. Charter and Membership Appointment Terms

We first chartered the Committee on May 20, 2014, and we anticipate renewing the charter for another two-year term beginning in May 2016. Member appointment terms run for two years, concurrently with the Committee charter.

III. Committee Membership

The Committee includes at least eight Government and seven non-Government representatives. We select Committee members so that the Committee membership includes the following range of representatives, at a minimum:

Government members: Three FOIA professionals from Cabinet-level Departments; three FOIA professionals from non-Cabinet agencies; one representative from the Department of Justice, Office of Information Policy; and one representative from NARA.

Non-Government Members: Two individuals representing the interests of non-Governmental organizations that advocate on FOIA matters; one individual representing the interests of FOIA requesters who qualify for the “all other” FOIA requester fee category; one individual representing the interests of requesters who qualify for the “news media” FOIA requester fee category; one individual representing the interests of requesters who qualify for the “commercial” FOIA requester fee category; one individual representing the interests of historians and history-related organizations; and one individual representing the interests of academia.

IV. Nomination information

All nominations for Committee membership should provide the following information:

1. Your name, title, and relevant contact information (including phone, fax, and email address);

2. The nominee's name, title, and relevant contact information, and the Committee position for which you are submitting the nominee;

3. A short paragraph or biography about the nominee (fewer than 250 words), summarizing their resumé or otherwise highlighting the contributions the nominee would bring to the Committee; and

4. The nominee's resumé or curriculum vitae.

OGIS will notify nominees selected for appointment to the Committee in the summer of 2016.

Dated: March 16, 2016.
Patrice Little Murray,
Committee Management Officer.

[FR Doc. 2016-06319 Filed 3-21-16; 8:45 am]

BILLING CODE 7515-01-P